DEPARTMENT OF HEALTH AND HUMAN SERVICES

National Committee on Vital and Health Statistics: Meeting Standards Subcommittee

Pursuant to the Federal Advisory Committee Act, the Department of Health and Human Services (HHS) announces the following advisory committee meeting.

Name: National Committee on Vital and Health Statistics (NCVHS); Subcommittee on Standards.

Time and Date: June 20, 2012, 9 a.m.-5 p.m. EST.

Place: Double Tree Hilton Hotel Silver Spring, 8727 Colesville Road, Silver Spring, Maryland 20910, Tel: 1-301-589-5200.

Status: Open.

Purpose: The purpose of the hearing is to receive an update from industry on the implementation of ASCX12 Version 5010 and NCPDP Version D.0 (HIPAA standards), an update from the Designated Standards Maintenance Organization (DSMO), and industry preparations for the first set of operating rules. The committee will also hear from the American Dental Association about updates to their voting process for the dental code set. Finally, information will be provided on unique medical device identifiers, and commentary from industry concerning issues pertaining to health plan compliance certification.

The NCVHS has been named in the Patient Protection and Affordable Care Act (ACA) of 2010 to review and make recommendations on several operating rules and standards related to HIPAA transactions. This meeting will support these activities in the development of a set of recommendations for the Secretary, as required by § 1104 of the ACA.

Contact Person for More Information: Marjorie S. Greenberg, Executive Secretary, NCVHS, National Center for Health Statistics, Centers for Disease Control and Prevention, 3311 Toledo Road, Room 2402, Hyattsville, Maryland 20782, telephone (301) 458-4245 or Lorraine Doo, lead staff for the Standards Subcommittee, NCVHS, Centers for Medicare and Medicaid Services, Office of E-Health Standards and Services, 7500 Security Boulevard, Baltimore, Maryland 21244, telephone (410) 786-6597. Program information as well as summaries of meetings and a roster of committee members are available on the NCVHS home page of the HHS Web site: http://www.ncvhs.hhs.gov/, where further information including an agenda will be posted when available.

Should you require reasonable accommodation, please contact the CDC Office of Equal Employment Opportunity on (301) 458-4EEO (4336) as soon as possible.

Dated: June 1, 2012.
James Scanlon,
Deputy Assistant Secretary for Planning and Evaluation, Office of the Assistant Secretary for Planning and Evaluation.

[FR Doc. 2012-13986 Filed 6-7-12; 8:45 am]

BILLING CODE 4151-05-P